DEPARTMENT OF TRANSPORTATION

Federal Transit Administration

Notice of Intent (NOI) To Prepare a Draft Environmental Impact Statement for the Anaheim Regional Transportation Intermodal Center (ARTIC) in the City of Anaheim, Orange County, CA

AGENCY: Federal Transit Administration (FTA), Department of Transportation (DOT).

ACTION: Notice of Intent to Prepare an Environmental Impact Statement.

SUMMARY: The Federal Transit Administration (FTA), in cooperation with the Orange County Transportation Authority (OCTA) and the City of Anaheim, is issuing this notice of intent to advise other agencies and the public that they will be preparing a Draft Environmental Impact Statement/Environmental Impact Report (DEIS/EIR) for the Anaheim Regional Transportation Intermodal center (ARTIC), which is proposed to provide a new multimodal transportation facility in the vicinity of the existing Metrolink/Amtrak Anaheim Station in Anaheim, California. The EIS will be prepared in accordance with regulations implementing the National Environmental Policy Act (NEPA) as well as provisions of the Safe, Accountable, Flexible, Efficient Transportation Equity Act: A Legacy for Users (SAFETEA-LU, 2005). The EIR will be prepared in accordance with guidelines implementing the California Environmental Quality Act (CEQA). The purpose of this Notice of Intent is to alert interested parties regarding the plan to prepare the DEIS/EIR, to provide information on the proposed transit project and possible alternatives, to invite participation in the DEIS/EIR process, including comments on the scope of the DEIS/EIR, and to announce that a public scoping meeting will be conducted.

DATES: Written comments on the scope of the DEIS/EIR including the project's purpose and need, the alternatives to be considered, the impacts to be evaluated, and the methodologies to be used in the evaluations should be sent to Ms. Jennifer Bergener, Rail Program Manager, at the ADDRESSES below by November 25, 2009. A scoping meeting will be held on Wednesday, October 14, 2009 from 5 to 7 p.m. at the location indicated under ADDRESSES below. Representatives of Native American tribal governments and all Federal, State, regional and local agencies that may have an interest in any aspect of the project will be invited to be participating or cooperating agencies, as appropriate.

ADDRESSES: Written comments on this Notice of Intent should be sent to Ms. Jennifer Bergener, Rail Program Manager, at OCTA, 600 S. Main Street, Orange, CA 92868. Comments also may be submitted in writing at the public scoping meeting. The address for the public scoping meeting is as follows:

• OCTA, 600 S. Main Street, Orange, CA 92868, Room 103/104. The Scoping Meeting will be held on Wednesday, October 14, 2009 from 5 to 7 p.m. The project's purpose and need and the description of alternatives currently under consideration for the proposed project will be presented at this meeting. The meeting facilities will be accessible to persons with disabilities. If special translation or signing services or other special accommodations are needed, please contact Laura Scheper at (714) 560-5697 or lscheper@octa.net at least 48 hours before the scoping meeting. Paper copies of scoping materials may be obtained from Laura Scheper at (714) 560-5697 or lscheper@octa.net. Also, scoping materials will be available at the meetings and on the OCTA Web site (http://www.octa.net).

FOR FURTHER INFORMATION CONTACT: Mr. Hymie Luden, City and Regional Planner, of the Federal Transit Administration's San Francisco Regional Office at (415) 744-2732 or write to FTA Region IX Office, 201 Mission Street Suite 1650, San Francisco, CA 94105-1926.

SUPPLEMENTARY INFORMATION:

Scoping

The FTA, OCTA, and the City of Anaheim invite all interested individuals, and organizations, public agencies and Native American Tribes to provide comments on the scope of the DEIS/EIR, including the project's purpose and need, the alternatives currently under consideration, the impacts to be evaluated and the evaluation methods to be used. Comments should focus on: alternatives that may be less costly or have fewer environmental or community impacts while achieving similar transportation objectives, and the identification of any significant social, economic or environmental issues related to alternatives.

NEPA “scoping” (40 CFR 1501.7) has specific and fairly limited objectives, one of which is to identify the significant issues associated with alternatives that will be examined in detail in the document, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence. Transit projects may also generate environmental benefits; these should be highlighted as well—the impact statement process should draw attention to positive impacts, not just negative impacts.

Once the scope of the environmental study, including significant environmental issues to be addressed, is settled, an annotated outline of the document will be prepared and shared with interested agencies and the public. The outline serves at least three worthy purposes, including (1) Documenting the results of the scoping process; (2) contributing to the transparency of the process; and (3) providing a clear roadmap for concise development of the environmental document

In the interest of producing a readable and user-friendly public document, and pursuant to 40 CFR 1502.10, the EIS shall be limited to 150 pages exclusive of any 4(f) and/or 6(f) evaluation. The EIS should emphasize graphics and virtual visual simulations over technical jargon, and technical appendices shall be included in a separate volume.

The Proposed Project

The ARTIC Project proposes to provide a new multimodal transit center in the Platinum Triangle area of the City of Anaheim. ARTIC would provide convenient and efficient transfers between Metrolink, Amtrak, local fixed-route bus, the planned Anaheim Fixed-Guideway, the planned high-speed trains service, future bus rapid transit, private automobiles and other forms of transportation.

Purpose and Need for the Proposed Project

The primary purpose of the ARTIC Project is to provide a multimodal transportation center in the vicinity of the existing Metrolink/Amtrak Anaheim Station, with capacity to accommodate the expected population growth and the planned new modes of transportation. The project is needed because Orange County's travel demand will continue to increase overtime, with the highest concentration in central and northern Orange County for the foreseeable future. With a population of more than 3 million, Orange County is the second-largest county in California and the fifth-largest county in the nation. Population is expected to continue to grow in the coming decades with a population of 3.7 million expected by 2040. The city of Anaheim is California's tenth-largest city with nearly 350,000 residents and is in the heart of the county. ARTIC would serve this growing community, now and into the future. With the implementation and integration of additional transit options, it is important to maximize the return on the transit services already deployed in that area and create new opportunities for transit use. The existing Anaheim Station is not able to accommodate some of these additional transit options, particularly the high speed train mode. A facility is needed that can provide easy connections with other bus, taxi, car, other local transit, and other train modes.

Alternatives

Project alternatives currently under consideration include a no build alternative, the proposed ARTIC alternative, at least one alternative that would provide a transit facility similar to ARTIC at the location of the existing Metrolink/Amtrak Anaheim Station, and at least one reduced project alternative. These alternatives are further described as follows:

• No Build Alternative—the No Build Alternative assumes that the proposed ARTIC is not constructed, and that the expansion and addition of transportation services planned to occur with the completion of ARTIC Phase 1 would be accommodated at the existing Metrolink/Amtrak Anaheim Station.

• ARTIC Alternative—The ARTIC Alternative would include three phases. Phase 1 would include realignment of the existing Los Angeles to San Diego (LOSSAN) rail corridor mainline tracks; relocation of track platforms; reconstruction of the existing rail bridge over Douglass Road; provisions for new pedestrian access; station terminal and other station area improvements with the terminal and supporting facilities relocated to the ARTIC site southeast of the intersection of Katella Avenue and Douglass Road; associated parking facilities; and roadway improvements to facilitate access and egress from the site and accommodate predicted traffic levels. Phases 2 and 3 would build upon the infrastructure provided in Phase 1 and introduce new or expanded transportation facility connections at the ARTIC site. The later phases would also include opportunities for potential joint development and other private-sector cost-sharing and/or revenue-sharing arrangements. The site for this alternative included the existing railroad right-of-way from approximately Katella Avenue to the Santa Ana River, where track improvements would be made; the existing Anaheim Station for Amtrak and Metrolink, which would be removed; and two parcels of land where the new multimodal station and associated development would occur. The first parcel, which is owned by OCTA, is located east of Douglass Road between Katella Avenue and the entrance to Angels Stadium of Anaheim, south of the existing development on the south side of Katella Avenue; west of the Santa Ana River, and north of the railroad right-of-way. The second parcel is owned by the City of Anaheim, is a smaller, triangular-shaped parcel south of the railroad right-of-way, with the Santa Ana River to the east and State Route 57 to the west. The current uses of the site are former maintenance facilities and storage yards. Adjacent land uses include retail and office/light industrial uses, sports/entertainment facilities (Angel Stadium and the Honda Center), a hotel, the Santa Ana River, and State Route 57.

• ARTIC On Existing Site Alternative—This alternative would provide the facilities proposed under the ARTIC alternative at the existing Anaheim Station site adjacent to Angels Stadium. A new terminal and supporting facilities would be constructed to replace the existing terminal. Existing track will be modified to accommodate extension of the existing platforms by approximately 200 feet. This alternative would also include improved and expanded pedestrian access, station area improvements similar to the ARTIC alternative, improved station area roadway access, and expanded parking facilities. Multiple options may be considered for this alternative.

• Reduced Development Alternative—This alternative would include only the transportation-related aspects of the ARTIC project, without some or all of the opportunities for potential joint development and other private-sector cost-sharing and/or revenue-sharing arrangements. Multiple options may be considered for this alternative.

The EIS Process and the Role of Participating Agencies and the Public

The purpose of the EIS process is to explore in a public setting the potentially significant effects of implementing the proposed action and alternatives on the physical, human, and natural environment. Areas of investigation will be developed during the scoping process and may include, but not be limited to, aesthetics, air quality, biological resources, cultural resources, geology/soils, hazards and hazardous materials, hydrology and water quality, land use and planning, noise and vibration, population and housing, public services, recreation, transportation and traffic, and utilities and service systems. Regulations implementing NEPA, as well as provisions of the Safe, Accountable, Flexible, Efficient Transportation Equity Act: A Legacy for Users (SAFETEA-LU), call for public involvement in the EIS process. Section 6002 of SAFETEA-LU requires that FTA, OCTA, and the City of Anaheim do the following: (1) Extend an invitation to other Federal and non-Federal agencies and Indian tribes that may have an interest in the proposed project to become ”participating agencies,” (2) provide an opportunity for involvement by participating agencies and the public in helping to define the purpose and need for a proposed project, as well as the range of alternatives for consideration in the impact statement, and (3) establish a plan for coordinating public and agency participation in and comment on the environmental review process. An invitation to become a participating agency, with the scoping information packet appended, will be extended to other Federal and non-Federal agencies and Indian tribes that may have an interest in the proposed project. It is possible that we may not be able to identify all Federal and non-Federal agencies and Indian tribes that may have such an interest. Any Federal or non-Federal agency or Indian tribe interested in the proposed project that does not receive an invitation to become a participating agency should notify the OCTA Rail Program Manager identified above under ADDRESSES, at the earliest opportunity, but no later than 30 days following this notice.

A comprehensive public involvement program has been developed. A technical advisory committee called the Project Development Team, consisting of representatives of state, regional and local agencies, is in place. The program also includes a public scoping process including a public review/comment period, a public hearing on the DEIS/EIR, and posting of information on the project Web site. We invite the public and participating agencies to consider the preliminary statement of purpose and need for the proposed project, the alternatives currently proposed for consideration, and potential significant environmental impacts that may be associated with the proposed project. All comments and suggestions will be given serious consideration. In accordance with 23 CFR 771.105(a) and 771.133, FTA will comply with all Federal environmental laws, regulations and executive orders applicable to the proposed project during the environmental review process to the maximum extent practicable. These requirements include, but are not limited to, the regulations of the Council on Environmental Quality implementing NEPA (40 CFR parts 1500-1508 and 23 CFR part 771), the project-level air quality conformity regulation of the U.S. Environmental Protection Agency (EPA) (40 CFR part 93), section 404(b)(1) guidelines of EPA (40 CFR part 230), Executive Orders 11988, 11990 and 12898 regarding floodplains, wetlands, and environmental justice, respectively, Section 106 of the National Historic Preservation Act (36 CFR Part 800), Section 7 of the Endangered Species Act (50 CFR part 402), and section 4(f) of the Department of Transportation Act (23 CFR 771.135).

Issued on: September 14, 2009.
Raymond Sukys,
Acting Regional Administrator, FTA, Region 9.

[FR Doc. E9-22478 Filed 9-17-09; 8:45 am]

BILLING CODE P